DEPARTMENT OF COMMERCE

Foreign-Trade Zones Board

[Docket 50-2007]

Foreign-Trade Zone 155—Calhoun and Victoria Counties, TX; Application for Expansion

An application has been submitted to the Foreign-Trade Zones (FTZ) Board (the Board) by the Calhoun-Victoria FTZ, Inc., grantee of FTZ 155, requesting authority to expand its zone in the Calhoun and Victoria Counties, Texas, area, adjacent to the Port Lavaca—Point Comfort CBP port of entry. The application was submitted pursuant to the provisions of the Foreign-Trade Zones Act, as amended (19 U.S.C. 81a-81u), and the regulations of the Board (15 CFR part 400). It was formally filed on December 14, 2007.

FTZ 155 was approved on October 24, 1988 (Board Order 398, 53 FR 44510, 11/03/88). The general-purpose zone currently consists of six sites (1,234 acres total) in Calhoun and Victoria Counties, Texas. The applicant is now requesting authority to expand the zone to include an additional site in Calhoun and Victoria Counties: Proposed Site 7 (11 acres)—natural gas storage site at the Markham salt dome caverns located at Farm Road 1468, Markham, Texas. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is February 25, 2008. Rebuttal comments in response to material submitted during the foregoing period may be submitted during the subsequent 15-day period (to March 11, 2008).

A copy of the application and accompanying exhibits will be available for public inspection at each of the following locations: U.S. Export Assistance Center, 15600 John F. Kennedy Blvd., Suite 530, Houston, Texas 77032 and the Office of the Executive Secretary, Foreign-Trade Zones Board, Room 2111, U.S. Department of Commerce, 1401 Constitution Avenue, NW., Washington, DC 20230.

For further information, contact Kathleen Boyce at 202-482-1346 or Kathleen_Boyce@ita.doc.gov.

Dated: December 14, 2007.
Andrew McGilvray,
Executive Secretary .

[FR Doc. E7-25008 Filed 12-26-07; 8:45 am]

BILLING CODE 3510-DS-P